DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Evaluation of the Cooperative Agreements To Benefit Homeless Individuals (CABHI) Program (OMB No. 0930-0339)—REVISION

SAMHSA is conducting a cross-site evaluation of the FY2016 cohort of the CABHI grant program. The CABHI Evaluation builds on a previous evaluation of SAMHSA's 2009-2012 homeless services grant programs (i.e., Grants for the Benefit of Homeless Individuals, Services in Supportive Housing, and CABHI), under which the approved data collection tools were developed and implemented. SAMHSA is requesting approval from OMB to revise the burden inventory, which has been calculated based on the number of FY2016 CABHI grantees, and to modify the data collection mode of a project director interview.

In 2016, SAMHSA awarded 30 CABHI grants across three levels: States (up to $1.5 million per year), Local Governments (up to $800,000 per year), and Communities (up to $400,000 per year). The grantees are united by the goal of enhancing and expanding infrastructure and capacity for mental health and substance abuse treatment and related support services for individuals experiencing chronic homelessness or veterans, families, or youth experiencing homelessness as a result of these conditions. This is accomplished through the provision of permanent supportive housing, behavioral health treatment, and recovery support services, and enrollment in health insurance, Medicaid, or other mainstream benefit programs.

The primary task of the CABHI evaluation is to conduct a comprehensive process and outcome evaluation, addressing questions related to the implementation of the CABHI grant projects and the extent to which they were able to meet the program's goals. Process evaluation primarily represents what is done to and for the client (e.g., services provided); this aspect of the evaluation will also include a focus on structure, or the resources available in the service delivery system, which represent the capacity to deliver quality care, but not the care itself. The outcome evaluation will focus on outputs, which are the most immediate or proximal results of project activities (e.g., changes in partner collaboration, the number of clients enrolled in mainstream benefits), and client outcomes, particularly those related to behavioral health and homelessness and housing instability. The data collection tools included in this request collect a wide range of quantitative and qualitative data on characteristics of the grantee organization and its partnerships; the system within which the project is embedded; relationships with stakeholders; characteristics of the target population; services received, including implementation of EBPs; staffing patterns; costs of services; barriers and facilitators of project implementation; and project sustainability efforts. Data collection efforts that will support the evaluation are described below.

The Project Director (PD) Phone Interview/Web Survey is designed to systematically collect key grant project characteristics which will directly inform the process evaluation component and will also provide essential data by documenting the partnerships and services each grantee includes in their project. The interview includes two components, a semi-structured telephone interview and a Web survey, which represents a change from the original approval. The interview was developed to be conducted as a telephone interview; however, some sections are better suited for self-administration through a Web-based survey (e.g., reporting which services the project is providing to clients) and the instrument has been modified accordingly. The PD Phone Interview/Web Survey is composed of the following sections: Grantee Agency and Project Characteristics, Target Population, Stakeholders/Partners, Services, Evidence-Based Practices (EBPs), Housing, Project Organization and Implementation, Sustainability, Local Evaluation, Technical Assistance, and Lessons Learned. A total of 39 respondents are expected to complete the PD Phone Interview/Web Survey; this includes one respondent from all of the CABHI grantees (n=30) and the State sub-recipients (n=9). This data collection will occur one time during Year 1 and one time during Year 3 of the evaluation.

Site Visits will consist of in-person, semi-structured discussions with grant project directors, State sub-recipient coordinators, project evaluators, financial staff, behavioral health treatment staff, case managers, housing providers, other support services staff, primary partner staff and other key stakeholders, and project client participants. The purpose of the Site Visits is to collect detailed qualitative information and economic data on project activities conducted by the grantees and their partners, which will directly inform the process evaluation. The qualitative data will also provide essential information for the outcome evaluation component by documenting the interventions provided to clients and the implementation, barriers, facilitators, challenges and successes for each grant project visited. Each CABHI grant project (n=30) will be visited once during Year 2 and once during Year 3 of the evaluation. No changes have been made to the Site Visit instruments.

The EBP Self-Assessment is a Web-based survey designed to collect information on the services implemented in CABHI grant projects that have a demonstrable evidence base, providing a description of the EBP interventions received by project clients. The EBP Self-Assessment tool is divided into two parts. Part 1 collects information on general implementation of the projects' primary EBPs (i.e., those received by the most project clients). Thirty-six respondents (9 State sub-recipients, 12 Local Governments, and 15 Communities) are expected to complete Part 1 of the EBP Self-Assessment, which may be completed up to 3 times based on the number of primary EBPs being implemented by the project. Part 2 collects detailed implementation data on a selected group of EBPs (i.e., Assertive Community Treatment, Integrated Dual Disorders Treatment, Illness Management and Recovery, Supported Employment, Critical Time Intervention, and Supplemental Security Income [SSI]/Social Security Disability Insurance [SSDI] Outreach, Access, and Recovery) and will be administered only to projects using the selected EBPs and only for the EBPs they are implementing. Thirty-six respondents (9 State sub-recipients, 12 Local Governments, and 15 Communities) are expected to complete Part 2 of the EBP Self-Assessment, which may be completed up to 3 times based on the number of Part 2 EBPs being implemented by the project. Respondents for both Part 1 and 2 may include grant project directors, State sub-recipient coordinators, or other staff knowledgeable about the project's EBPs. The EBP Self-Assessment will be administered in Year 2 of the evaluation. No changes have been made to the EBP Self-Assessment instrument.

The Permanent Supportive Housing (PSH) Self-Assessment is a Web-based survey completed by the CABHI grant projects to understand the extent to which they are implementing key dimensions of PSH and capture the variability of the PSH model among the projects. Information is collected on the following dimensions: Choice of housing, separation of housing and services; decent, safe, and affordable housing; housing integration; tenancy rights; access to housing; flexible, voluntary services; service philosophy; and team-based behavioral health. Thirty-six respondents (9 State sub-recipients, 12 Local Governments, and 15 Communities) are expected to complete the PSH Self-Assessment one time, and may include grant project directors, State sub-recipient coordinators, or other staff knowledgeable about the project's PSH model. The PSH Self-Assessment will be administered in Year 2 of the evaluation. No changes have been made to the PSH Self-Assessment instrument.

Annualized Burden Hours
Instrument/Activity | Number of respondents | Responses per respondent | Total number of responses | Hours per response | Total burden hours
PD Phone Interview/Web Survey | 39 | 1 | 39 | 2.1 | 82
Site Visits: |  |  |  |  |
Opening Session/Project Director Interview | ᵃ 300 | 1 | 300 | 2.5 | 750
Case Manager, Treatment, Housing Staff/Provider Interview | ᵇ 540 | 1 | 540 | 2 | 1,080
Stakeholder Interview | ᶜ 270 | 1 | 270 | 1.5 | 405
Evaluator Interview | ᵈ 60 | 1 | 60 | 1 | 60
Client Focus Group | ᵉ 450 | 1 | 450 | 1.5 | 675
Cost Interview | ᶠ 60 | 1 | 60 | 2 | 120
Evidence-Based Practice Self-Assessment Part 1 | 36 | 3 | 108 | 0.58 | 63
Evidence-Based Practice Self-Assessment Part 2 | 36 | 3 | 108 | 0.25 | 27
Permanent Supportive Housing Self-Assessment | 36 | 1 | 36 | 0.67 | 24
Total | ᵍ 1,650 |  | 1,971 |  | 3,286
ᵃ 10 respondents × 30 site visits = 300 respondents.
ᵇ 18 respondents × 30 site visits = 540 respondents.
ᶜ 9 respondents × 30 site visits = 270 respondents.
ᵈ 2 respondents × 30 site visits = 60 respondents.
ᵉ 15 respondents × 30 site visits = 450 respondents.
ᶠ 2 respondents × 30 site visits = 60 respondents.
ᵍ This is an unduplicated count of total respondents.

Written comments and recommendations concerning the proposed information collection should be sent by February 23, 2017 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2017-01430 Filed 1-23-17; 8:45 am]

BILLING CODE 4162-20-P